DEPARTMENT OF TRANSPORTATION

Federal Aviation Administration

14 CFR Part 71

[Docket No. FAA-2020-0188; Airspace Docket No. 20-ASO-9]

RIN 2120-AA66

Amendment of Air Traffic Service (ATS) Routes J-6, Q-68, V-5, V-49, V-243, and T-325 in the Vicinity of Bowling Green, KY

AGENCY: Federal Aviation Administration (FAA), DOT.

ACTION: Final rule.

SUMMARY: This action amends Jet Route J-6, VHF Omnidirectional Range (VOR) Federal airways V-5, V-49, and V-243, and area navigation (RNAV) routes Q-68 and T-325 in the vicinity of Bowling Green, KY. These amendments are necessary due to the planned decommissioning of the VOR portion of the Bowling Green, KY, VOR/Tactical Air Navigation (VORTAC) navigation aid (NAVAID). The Bowling Green VOR is being decommissioned in support of the FAA's VOR Minimum Operational Network (MON) program.

DATES: Effective date 0901 UTC, September 10, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking (NPRM) for Docket No. FAA-2020-0188 in the Federal Register (85 FR 16585; March 24, 2020), amending Jet Route J-6, VOR Federal airways V-5, V-49, and V-243, and RNAV routes Q-68 and T-325 in the vicinity of Bowling Green, KY. The amendments were necessary due to the planned decommissioning of the VOR portion of the Bowling Green, KY, VORTAC. Interested parties were invited to participate in this rulemaking effort by submitting written comments on the proposal. No comments were received.

Jet routes are published in paragraph 2004, RNAV Q-routes are published in paragraph 2006, VOR Federal airways are published in paragraph 6010(a), and RNAV T-routes are published in paragraph 6011 of FAA Order 7400.11D, dated August 8, 2019, and effective September 15, 2019, which is incorporated by reference in 14 CFR 71.1. The ATS routes listed in this document will be subsequently published in the Order.

The Rule

The FAA is amending Title 14 Code of Federal Regulations (14 CFR) part 71 to modify Jet Route J-6, VOR Federal airways V-5, V-49, and V-243, and RNAV routes Q-68 and T-325. The planned decommissioning of the VOR portion of the Bowling Green, KY, VORTAC has made these amendments necessary. This rule also corrects the state listed for the Choo Choo VORTAC, located in Chattanooga, TN, from “GA” to “TN” in the V-5 and V-243 descriptions. The ATS route amendments are described below.

J-6: J-6 extends between the Salinas, CA, VORTAC and the Albany, NY, VORTAC. The route segment between the Little Rock, AR, VORTAC and the Charleston, WV, VOR/Distance Measuring Equipment (VOR/DME) is removed. The unaffected portions of the existing route remain as charted.

Q-68: Q-68 extends between the Charleston, WV, VOR/DME and the OTTTO, VA, waypoint located near the Linden, VA, VORTAC. The route is extended westward from the Charleston, WV, VOR/DME to the LITTR, AR, waypoint established near the Little Rock, AR, VORTAC. The unaffected portions of the existing route remain as charted.

V-5: V-5 extends between the Pecan, GA, VOR/DME and the Appleton, OH, VORTAC. The airway segment between the Choo Choo, TN, VORTAC and the New Hope, KY, VOR/DME is removed. The unaffected portions of the existing airway remain as charted.

V-49: V-49 extends between the Vulcan, AL, VORTAC and the Mystic, KY, VOR. The airway segment between the Nashville, TN, VORTAC and the Mystic, KY, VOR is removed. The unaffected portions of the existing airway remain as charted.

V-243: V-243 extends between the Craig, FL, VORTAC and the Bowling Green, KY, VORTAC. The airway segment between the Choo Choo, TN, VORTAC and the Bowling Green, KY, VORTAC is removed. The unaffected portions of the existing airway remain as charted.

T-325: T-325 extends between the Bowling Green, KY, VORTAC and the Terre Haute, IN, VORTAC. The Bowling Green, KY (BWG), route point is changed from being listed as a “VORTAC” to a “DME”. Additionally, the Bowling Green, KY, “BWG” identifier and Terre Haute, IN, “TTH” identifier are added to the first line of the route description and the geographic coordinates of each route point are expressed in degrees, minutes, seconds, and hundredths of a second. The existing RNAV route remains as charted.

The NAVAID radials listed in the ATS route descriptions below are unchanged and stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of modifying Jet Route J-6, VOR Federal airways V-5, V-49, and V-243, and RNAV routes Q-68 and T-325, due to the planned decommissioning of the VOR portion of the Bowling Green, KY, VORTAC NAVAID, qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2004 Jet Routes.

* * * * *

J-6 [Amended]

From Salinas, CA; INT Salinas 145° and Avenal, CA, 292° radials; Avenal; INT Avenal 119° and Palmdale, CA, 310° radials; Palmdale; Hector, CA; Needles, CA; Drake, AZ; Zuni, AZ; Albuquerque, NM; Tucumcari, NM; Panhandle, TX; Will Rogers, OK; to Little Rock, AR. From Charleston, WV; INT Charleston 076° and Martinsburg, WV, 243° radials; Martinsburg; Lancaster, PA; Broadway, NJ; Sparta, NJ; to Albany, NY.

* * * * *

Paragraph 2006 United States Area Navigation Routes.

* * * * *

Q-68 LITTR, AR to OTTTO, VA [Amended]
LITTR, AR | WP | (Lat. 34°40′39.90″ N, long. 092°10′49.26″ W)
SOPIE, TN | FIX | (Lat. 36°08′37.48″ N, long. 088°33′47.95″ W)
Bowling Green, KY | DME | (Lat. 36°55′43.47″ N, long. 086°26′36.36″ W)
YOCKY, KY | FIX | (Lat. 37°39′14.79″ N, long. 084°09′22.45″ W)
SPAYD, WV | FIX | (Lat. 38°11′36.56″ N, long. 082°19′28.69″ W)
Charleston, WV (HVQ) | VOR/DME | (Lat. 38°20′58.83″ N, long. 081°46′11.69″ W)
TOMCA, WV | WP | (Lat. 38°34′42.49″ N, long. 080°36′41.09″ W)
RONZZ, WV | WP | (Lat. 38°33′16.08″ N, long. 080°07′56.63″ W)
HHOLZ, WV | WP | (Lat. 38°38′01.96″ N, long. 079°41′33.22″ W)
CAPOE, VA | WP | (Lat. 38°51′13.13″ N, long. 078°22′27.45″ W)
OTTTO, VA | WP | (Lat. 38°51′15.81″ N, long. 078°12′20.01″ W)

* * * * *

Paragraph 6010(a) Domestic VOR Federal Airways.

* * * * *

V-5 [Amended]

From Pecan, GA; Vienna, GA; Dublin, GA; Athens, GA; INT Athens 340° and Electric City, SC, 274° radials; INT Electric City 274° and Choo Choo, TN, 127° radials; to Choo Choo. From New Hope, KY; Louisville, KY; Cincinnati, OH; to Appleton, OH.

* * * * *

V-49 [Amended]

From Vulcan, AL; Decatur, AL; to Nashville, TN.

* * * * *

V-243 [Amended]

From Craig, FL; Waycross, GA; Vienna, GA; LaGrange, GA; INT LaGrange 342° and Choo Choo, TN, 189° radials; to Choo Choo.

* * * * *

Paragraph 6011 United States Area Navigation Routes.

* * * * *

T-325 Bowling Green, KY (BWG) to Terre Haute, IN (TTH) [Amended]
Bowling Green, KY (BWG) | DME | (Lat. 36°55′43.47″ N, long. 086°26′36.36″ W)
RENRO, KY | WP | (Lat. 37°28′50.53″ N, long. 086°39′19.25″ W)
LOONE, KY | WP | (Lat. 37°44′14.43″ N, long. 086°45′18.02″ W)
APALO, IN | WP | (Lat. 38°00′20.59″ N, long. 086°51′35.27″ W)
BUNKA, IN | WP | (Lat. 39°04′57.32″ N, long. 087°09′06.58″ W)
Terre Haute, IN (TTH) | VORTAC | (Lat. 39°29′20.19″ N, long. 087°14′56.45″ W)

* * * * *

Issued in Washington, DC, on June 17, 2020.
Scott M. Rosenbloom,
Acting Manager, Rules and Regulations Group.

[FR Doc. 2020-13526 Filed 6-25-20; 8:45 am]

BILLING CODE 4910-13-P